DEPARTMENT OF HOMELAND SECURITY

U.S. Citizenship and Immigration Services

[OMB Control Number 1615-0047]

Agency Information Collection Activities: Employment Eligibility Verification, Form I-9, OMB Control No. 1615-0047; Correction

ACTION: 30-Day Notice Correction; Correction.

On August 22, 2012, the Department of Homeland Security (DHS), U.S. Citizenship and Immigration Services (USCIS) published a 30-day notice in the Federal Register at 77 FR 50710. This 30-day notice was published to allow for a 30-day public comment period on the proposed revisions to the information collection, Employment Eligibility Verification, Form I-9; and to notify the public that USCIS will be submitting the information collection request to the Office of Management and Budget (OMB) for review and clearance in accordance with the Paperwork Reduction Act of 1995.

In the 30-day notice published on August 22, 2012 at 77 FR 50710, USCIS inadvertently did not indicate that comments in response to the 30-day notice should be directed to the OMB USCIS Desk Officer in accordance with 8 CFR 1320. On September 10, 2012, USCIS corrected this error by publishing a 30-day notice correction in the Federal Register at 77 FR 55486. This 30-day notice correction directed public comments to both OMB and DHS with instructions on how to submit public comments, and extended the public comment period closing date from Friday, September 21, 2012 to Thursday, September 27, 2012, to ensure the public sufficient opportunity to comment on the information collection.

In the 30-day notice correction published on September 10, 2012 at 77 FR 55486, under the instructions on how to submit comments via the Federal e-Rulemaking Portal Web site at http://www.Regulations.gov, USCIS referenced an incorrect e-Docket ID number USCIS-2006-2008 due to a typographical error. The correct e-Docket ID number is USCIS-2006-0068. With this second correction notice, USCIS is correcting this typographical error. Currently, the e-Docket ID number USCIS-2006-2008 is not assigned to any agency action. Therefore, when submitting public comments to DHS via the Federal e-Rulemaking Portal Web site at www.Regulation.gov, comments should be submitted under e-Docket ID number USCIS-2006-0068 and not USCIS-2006-2008. USCIS is also extending the public comment period until October 15, 2012 to give the public sufficient opportunity to comment on the proposed information collection.

Written comments and/or suggestions regarding the item(s) contained in the 30-day notice published in the Federal Register on August 22, 2012, at 77 FR 50710 should be directed to Office of Information and Regulatory Affairs, OMB, USCIS Desk Officer and to DHS. Commenters should direct submissions to the OMB USCIS Desk Officer via facsimile at 202-395-5806 or via email at oira_submission@omb.eop.gov. In addition, commenters may submit comments to DHS via mail to DHS, USCIS, Office of Policy and Strategy, Chief, Regulatory Coordination Division, 20 Massachusetts Avenue NW., Washington, DC 20529-2020; via email to USCISFRComment@dhs.gov; or via the Federal e-Rulemaking Portal Web site at http://www.Regulations.gov under e-Docket ID number USCIS-2006-0068. When submitting comments, please make sure to add OMB Control Number 1615-0047 in the subject box.

If you need a copy of the information collection instrument with supplementary documents, or need additional information, please visit http://www.Regulations.gov. We may also be contacted at: USCIS, Office of Policy and Strategy, Regulatory Coordination Division, 20 Massachusetts Avenue NW., Washington, DC 20529-2020; Telephone 202-272-1470.

Dated: September 11, 2012.
Laura Dawkins,
Chief, Regulatory Coordination Division, Office of Policy and Strategy, U.S. Citizenship and Immigration Services, Department of Homeland Security.

[FR Doc. 2012-22700 Filed 9-13-12; 8:45 am]

BILLING CODE 9111-97-P